DEPARTMENT OF THE TREASURY

Senior Executive Service; Departmental Performance Review Board

AGENCY: Treasury Department.

ACTION: Notice of members of the Departmental Performance Review Board (PRB).

SUMMARY: Pursuant to 5 U.S.C. 4314(c)(4), this notice announces the appointment of members of the Departmental PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

Composition of Departmental PRB: The Board shall consist of at least three members. In the case of an appraisal of a career appointee, more than half the members shall consist of career appointees. The names and titles of the PRB members are as follows:

Daniel M. Tangherlini, Assistant Secretary for Management and Chief Financial Officer,

Nani Ann Coloretti, Deputy Assistant Secretary for Management and Budget,

Richard L. Gregg, Acting Fiscal Assistant Secretary,

Rochelle F. Granat, Deputy Assistant Secretary for Human Resources and Chief Human Capital Officer,

Charles R. Hastings, Deputy Chief Human Capital Officer,

Timothy E. Skud, Deputy Assistant Secretary for Tax, Trade, and Tariff Policy,

Linda E. Stiff, Deputy Commissioner, Services and Enforcement, Internal Revenue Service,

Mark A. Ernst, Deputy Commissioner, Operations Support, Internal Revenue Service,

John J. Manfreda, Administrator, Alcohol and Tobacco Tax and Trade Bureau,

Vicky I. McDowell, Deputy Administrator, Alcohol and Tobacco Tax and Trade Bureau,

James H. Freis, Jr., Director, Financial Crimes Enforcement Network,

William F. Baity, Deputy Director, Financial Crimes Enforcement Network,

David A. Lebryk, Commissioner, Financial Management Service,

Wanda J. Rogers, Deputy Commissioner, Financial Management Service,

Frederic Van Zeck, Commissioner, Bureau of the Public Debt,

Anita D. Shandor, Deputy Commissioner, Bureau of the Public Debt,

Larry R. Felix, Director, Bureau of Engraving and Printing,

Pamela J. Gardiner, Deputy Director, Bureau of Engraving and Printing,

Andrew D. Brunhart, Deputy Director, United States Mint.

DATES: Membership is effective on the date of this notice.

FOR FURTHER INFORMATION CONTACT: Catherine R. Schmader, Executive Resources Program Manager, 1500 Pennsylvania Avenue, NW., ATTN: 1750 Pennsylvania Avenue, NW.—Suite 8100, Washington, DC 20220, Telephone: (202) 622-0396.

This notice does not meet the Department's criteria for significant regulations.

Charles R. Hastings,
Deputy Chief Human Capital Officer.

[FR Doc. E9-24371 Filed 10-8-09; 8:45 am]

BILLING CODE 4811-42-P